FEDERAL COMMUNICATIONS COMMISSION

47 CFR Parts 0 and 54

[CC Docket No. 02-6; FCC 03-101]

Schools and Libraries Universal Service Support Mechanism

AGENCY: Federal Communications Commission.

ACTION: Final rule, correction.

SUMMARY: This document corrects an error in the dates section and the supplementary information portion of a Federal Register document regarding the Commission taking major steps to simplify and streamline the operation of our universal service mechanism for schools and libraries, while improving our oversight over the support mechanism. In addition, the Commission adopts a number of rules to streamline program operation, and promote the Commission's goal of reducing the likelihood of fraud, waste, and abuse. The summary was published in the Federal Register on June 20, 2003.

DATES: Effective July 2, 2003.

FOR FURTHER INFORMATION CONTACT: Jonathan Secrest and Katherine Tofigh, Attorneys, Telecommunications Access Policy Division, Wireline Competition Bureau, (202) 418-7400.

SUPPLEMENTARY INFORMATION: This summary contains a correction to the dates section and the supplementary information portion of a Federal Register summary, 68 FR 36931 (June 20, 2003). The full text of the Commission's Second Report and Order in CC Docket No. 02-6, FCC 03-101 released on April 30, 2003 is available for public inspection during regular business hours in the FCC Reference Center, Room CY-A257, 445 Twelfth Street, SW., Washington, DC, 20554.

In rule FR Doc. 03-14928 published June 20, 2003 (68 FR 36931) make the following corrections.

1. On page 36931, in the third column, in the dates section, remove “§ 54.515(b)” and add “§ 54.514(b)” in its place.

2. On page 36941, in the third column, in paragraph 89, seventh line, remove “§ 54.515(b)” and add “§ 54.514(b)” in its place.

Federal Communications Commission.
Marlene H. Dortch,
Secretary.

[FR Doc. 03-16533 Filed 7-1-03; 8:45 am]

BILLING CODE 6712-01-P